NUCLEAR REGULATORY COMMISSION

[Docket No. 50-333; NRC-2016-0214]

Entergy Nuclear Operations, Inc.; James A. FitzPatrick Nuclear Power Plant

AGENCY: Nuclear Regulatory Commission.

ACTION: License amendment application; withdrawal by applicant.

SUMMARY: The U.S. Nuclear Regulatory Commission (NRC) has granted the request of Entergy Nuclear Operations, Inc. (Entergy, the licensee), to withdraw its application dated January 15, 2016, as supplemented by letters dated June 3, 2016, and September 19, 2016, for a proposed amendment to Facility Operating License No. DPR-59. The proposed amendment request would have revised and removed certain requirements in the James A. FitzPatrick Nuclear Power Plant (JAF) Technical Specification (TS) Sections 5.1, “Responsibility”; 5.2, “Organization”; and 5.3, “Plant Staff Qualifications,” and added additional definitions to TS Section 1.1, “Definitions,” once certifications for permanent cessation of operation and permanent removal of fuel from the reactor are submitted to the NRC.

ADDRESSES: Please refer to Docket ID NRC-2016-0214 when contacting the NRC about the availability of information regarding this document. You may obtain publicly-available information related to this document using any of the following methods:

• Federal Rulemaking Web site: Go to http://www.regulations.gov and search for Docket ID NRC-2016-0214. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: James Kim, Office of Nuclear Reactor Regulation, U.S. Nuclear Regulatory Commission, Washington DC 20555-0001; telephone: 301-415-4125; email: James.Kim@nrc.gov.

SUPPLEMENTARY INFORMATION: The NRC has granted the request of Entergy to withdraw its application dated January 15, 2016, as supplemented by letters dated June 3, 2016, and September 19, 2016 (ADAMS Accession Nos. ML16015A456, ML16155A326, and ML16263A237, respectively), for a proposed amendment to Facility Operating License No. DPR-59. The proposed amendment request would have revised and removed certain requirements in the JAF TS Sections 5.1, “Responsibility”; 5.2, “Organization”; and 5.3, “Plant Staff Qualifications,” and added additional definitions to TS Section 1.1, “Definitions,” once certifications for permanent cessation of operation and permanent removal of fuel from the reactor are submitted to the NRC.

The Commission has previously issued a proposed finding that the amendment involves no significant hazards consideration published in the Federal Register on October 25, 2016 (81 FR 73434). However, by letter dated January 13, 2017 (ADAMS Accession No. ML17015A000), the licensee requested to withdraw the proposed amendment.

Dated at Rockville, Maryland, this 25th day of January 2017.
For the Nuclear Regulatory Commission.
James Kim,
Project Manager, Special Projects and Process Branch, Division of Operating Reactor Licensing, Office of Nuclear Reactor Regulation.

[FR Doc. 2017-02129 Filed 1-31-17; 8:45 am]

BILLING CODE 7590-01-P